DEPARTMENT OF THE INTERIOR

National Park Service

National Register of Historic Places; Notification of Pending Nominations

Nominations for the following properties being considered for listing in the National Register were received by the National Park Service before April 5, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-343-1836. Written or faxed comments should be submitted by May 19, 2003.

Carol D. Shull,
Keeper of the National Register of Historic Places.

Arkansas

Cleveland County

Hall Morgan Post 83, American Legion Hut, 208 Sycamore St., 208 Sycamore St., 03000399

Jefferson County

St. Louis Southwester Railway Steam Locomotive #819, 1720 Port Rd., Pine Bluff, 03000401

Lawrence County

Old U.S. 67, Alicia to Hoxie, (Arkansas Highway History and Architecture MPS) First St., Lawrence Cty. Rds. 747 and 549, and immediately E of current US 67, Alicia, 03000397

Pike County

Murfreesboro Cities Service Station, (Arkansas Highway History and Architecture MPS) NE side of the Town Square, Murfreesboro, 03000400

Stone County

Newton Sutterfield Farmstead, (Stone County MRA) 1797 Horton Hill Rd., Alco, 03000398

Colorado

Denver County

Temple Emanuel, 51 Grape St., Denver, 03000403

Mesa County

Crissey, Herbert and Edith, House, 218 W. 1st St., Palisade, 03000402

Connecticut

New Haven County

New Haven County Courthouse, 121 Elm St., New Haven, 03000404

Georgia

Haralson County

North Tallapoosa Residential Historic District, Roughly Centered on int. Bowden St. and Manning St., Tallapoosa, 03000405

Nevada

Churchill County

Holy Trinity Episcopal Church, 507 Churchill St., Fallon, 03000413

Clark County

John S. Park Historic Park, Roughly bounded by Charleston Blvd., Las Vegas Blvd., Franklin Ave., and S. Ninth St., Las Vegas, 03000412

Douglas County

Gardnerville Branch Jail, 1440 Courthouse St., Gardnerville, 03000415

Lyon County

Fernley Community Church, 80 S. Center St., Fernley, 03000414

Washoe County

Field Matron's Cottage, 1995 E. Second St., Reno, 03000416

Patrick Ranch House, 1225 Gordon Ave., Reno, 03000417

New Mexico

Eddy County

Armandine, 1301 N. Canal St., Carlsbad, 03000418

New York

Erie County

Concrete—Central Elevator, (Buffalo Grain and Materials Elevator MPS) 175 Buffalo River, Buffalo, 03000410

Wollenberg Grain and Seed Elevator, (Buffalo Grain and Materials Elevator MPS) 131 Goodyear Ave., Buffalo, 03000409

Nassau County

Sea cliff Firehouse, Roslyn Ave., Sea Cliff, 03000408

New York County

West 147th—149th Sts. Historic District, Roughly bounded by Eighth Ave., W. 149th St., Seventh Ave., and W. 147th Ave., New York, 03000407

Steuben County

Corning Armory, (Army National Guard Armories in New York State MPS) 127 Centerway, Corning, 03000411

Suffolk County

Wood, Joseph, House, 284 Greene Ave., Sayville, 03000406

North Carolina

Pitt County

Greenville Commercial Historic District, Roughly bounded by West Third, South Evans and East and West Fifth Sts., Greenville, 03000419

Oregon

Clackamas County

Rosenfeld, Walter, Estate, 15361 S. Clackamas River Dr., Oregon City, 03000420

A request for removal has been made for the following resources:

Arkansas

Cleburne County

Quitman High School Building, (Public Schools in the Ozarks MPS) AR 25 Quitman, 92001126

Johnson County

Science Hall, University of the Ozarks, University of the Ozarks campus, W of AR 103, Clarksville, 92001830

Pulaski County

Ish House, 1600 Scott St., Little Rock, 78000621

Pettefer, Harry, House, 105 E. 24th St., Little Rock, 78000624

White County

Honey Hill Christian Union Church, (White County MPS) S of AR 36 SW of Searcy, Searcy, 91001352

Iowa

Scott County

Ferner, Matthais, Building, (Davenport MRA) 212 Main St., Davenport, 83002426

Grant, W.T., Company, (Davenport MRA) 226 W. 2nd St., Davenport, 84001420

Ochs Building, (Davenport MRA) 214 Main St., Davenport, 83002478

[FR Doc. 03-10910 Filed 5-1-03; 8:45 am]

BILLING CODE 4310-70-P